DEPARTMENT OF VETERANS AFFAIRS

Privacy Act of 1974; Matching Program

AGENCY: Department of Veterans Affairs.

ACTION: Notice of Modified Matching Program.

SUMMARY: The Department of Veterans Affairs (VA) has a current 12 month computer matching agreement (CMA) re-establishment agreement with the Federal Bureau of Prisons (BOP) regarding Veterans who are in Federal prison and are also in receipt of compensation and pension benefits. The purpose of this CMA is to renew the agreement between VA, Veterans Benefits Administration (VBA) and the United States Department of Justice (DOJ), BOP. BOP will disclose information about individuals who are in federal prison. VBA will use this information as a match for recipients of Compensation and Pension benefits for adjustments of awards.

DATES: Comments on this new system of records must be received no later than 30 days after date of publication in the Federal Register. If no public comment is received during the period allowed for comment or unless otherwise published in the Federal Register by VA, the new system will become effective 30 days after date of publication in the Federal Register. This matching program will be valid for 18 months from the effective date of this notice.

ADDRESSES: Written comments may be submitted through www.Regulations.gov; by mail or hand-delivery to Director, Regulation Policy and Management (00REG), Department of Veterans Affairs, 810 Vermont Ave. NW., Room 1064, Washington, DC 20420; or by fax to (202) 273-9026 (not a toll-free number). Comments should indicate that they are submitted in response to CMA re-establishment agreement with the Federal BOP. Copies of comments received will be available for public inspection in the Office of Regulation Policy and Management, Room 1063B, between the hours of 8:00 a.m. and 4:30 p.m., Monday through Friday (except holidays). Please call (202) 461-4902 for an appointment. (This is not a toll-free number.) In addition, comments may be viewed online at www.Regulations.gov.

FOR FURTHER INFORMATION CONTACT: Eric Robinson (VBA), 202-443-6016 (this is not a toll-free number).

SUPPLEMENTARY INFORMATION: This agreement continues an arrangement for a periodic computer-matching program between VA (VBA as the matching recipient agency) and DOJ (BOP as the matching source agency). This agreement sets forth the responsibilities of VBA and BOP with respect to information disclosed pursuant to this agreement and takes into account both agencies' responsibilities under the Privacy Act of 1974, 5 U.S.C. 552a, as amended by the Computer Matching and Privacy Protection Act of 1988, as amended, and the regulations promulgated thereunder, including computer matching portions of a revision of OMB Circular No. A-130, 65 FR 77677 dated December 12, 2000.

Participating Agencies: VA (VBA as the matching recipient agency) and DOJ (BOP as the matching source agency).

Authority for Conducting the Matching Program: The legal authority to conduct this match is 38 U.S.C. 1505, 5106, and 5313. Section 5106 requires any Federal department or agency to provide VA such information as VA requests for the purposes of determining eligibility for, or the amount of VA benefits, or verifying other information with respect thereto. Section 1505 provides that no VA pension benefits shall be paid to or for any person eligible for such benefits, during the period of that person's incarceration as the result of conviction of a felony or misdemeanor, beginning on the 61st day of incarceration. Section 5313 provides that VA compensation or dependency and indemnity compensation above a specified amount shall not be paid to any person eligible for such benefit, during the period of that person's incarceration as the result of conviction of a felony, beginning on the 61st day of incarceration.

Purpose(s): The purpose of this matching program between VBA and BOP is to identify those Veterans and VA beneficiaries who are in receipt of certain VA benefit payments and who are confined (see Article II.G.) for a period exceeding 60 days due to a conviction for a felony or a misdemeanor. VBA has the obligation to reduce or suspend compensation, pension, and dependency and indemnity compensation benefit payments to Veterans and VA beneficiaries on the 61st day following conviction and incarceration in a Federal, State, or Local institution for a felony or a misdemeanor. VBA will use the BOP records provided in the match to update the master records of Veterans and VA beneficiaries receiving benefits and to adjust their VA benefits, accordingly, if needed.

Categories of Individuals: Veterans who have applied for compensation for service-connected disability under 38 U.S.C. Chapter 11; Veterans who have applied for nonservice-connected disability under 38 U.S.C. Chapter 15; Veterans entitled to burial benefits under 38 U.S.C. Chapter 23; Surviving spouses and children who have claimed pensions based on nonservice-connected death of a Veteran under 38 U.S.C. Chapter 15; Surviving spouses and children who have claimed death compensation based on service-connected death of a Veteran under 38 U.S.C. Chapter 11; Surviving spouses and children who have claimed dependency and indemnity compensation for service connected death of a Veteran under 38 U.S.C. Chapter 13; Parents who have applied for death compensation based on service connected death of a Veteran under 38 U.S.C. Chapter 11; Parents who have applied for dependency and indemnity compensation for service-connected death of a Veteran under 38 U.S.C. Chapter 13; Individuals who applied for educational assistance benefits administered by VA under title 38 of the U.S. Code; Individuals who applied for educational assistance benefits maintained by the Department of Defense under title 10 of the U.S. Code that are administered by VA; Veterans who apply for training and employers who apply for approval of their programs under the provisions of the Emergency Veterans' Job Training Act of 1983, Public Law 98-77; Any VA employee who generates or finalizes adjudicative actions using the Benefits Delivery Network (BDN) or the Veterans Service Network (VETSNET) computer processing systems; Veterans who apply for training and employers who apply for approval of their programs under the provisions of the Service Members Occupational Conversion and Training Act of 1992, Public Law 102-484; Representatives of individuals covered by the system.

CATEGORIES OF RECORDS:

The record, or information contained in the record, may include identifying information (e.g., name, address, social security number); military service and active duty separation information (e.g., name, service number, date of birth, rank, sex, total amount of active service, branch of service, character of service, pay grade, assigned separation reason, service period, whether Veteran was discharged with a disability, reenlisted, received a Purple Heart or other military decoration); payment information (e.g., Veteran payee name, address, dollar amount of readjustment service pay, amount of disability or pension payments, number of non-pay days, any amount of indebtedness (accounts receivable) arising from title 38 U.S.C. benefits and which are owed to the VA); medical information (e.g., medical and dental treatment in the Armed Forces including type of service-connected disability, medical facilities, or medical or dental treatment by VA health care personnel or received from private hospitals and health care personnel relating to a claim for VA disability benefits or medical or dental treatment); personal information (e.g., marital status, name and address of dependents, occupation, amount of education of a Veteran or a dependent, dependent's relationship to Veteran); education benefit information (e.g., information arising from utilization of training benefits such as a Veteran trainee's induction, reentrance or dismissal from a program or progress and attendance in an education or training program): Applications for compensation, pension, education, and vocational rehabilitation benefits and training which may contain identifying information, military service and active duty separation information, payment information, medical and dental information, personal and education benefit information relating to a Veteran or beneficiary's incarceration in a penal institution (e.g., name of incarcerated Veteran or beneficiary, claims folder number, name and address of penal institution, date of commitment, type of offense, scheduled release date, Veteran's date of birth, beneficiary relationship to Veteran and whether Veteran or beneficiary is in a work release or half-way house program, on parole or has been released from incarceration); the VA employee's BDN or VETSNET identification numbers, the number and kind of actions generated and/or finalized by each such employee, the compilation of cases returned for each employee.

SYSTEM(S) OF RECORDS:

Compensation, Pension, Education, and Vocational Rehabilitation and Employment Records—VA (58 VA 21/22/28)”, published at 74 FR 29275 (June 19, 2009), last amended at 77 FR 42593 on July 19, 2012. Justice/BOP-005,” published on June 7, 1984 (48 FR 2371 1), republished on May 9, 2002 (67 FR 31371), January 25, 2007 (72 FR 3410) and April 26, 2012 (77 FR 24982) and last modified on April 18, 2016 (81 FR 22639), routine use (i).

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on June 12, 2017 for publication.

Dated: November 2, 2017.
Kathleen M. Manwell,
Program Analyst, VA Privacy Service, Office of Privacy Information and Identity Protection, Office of Quality, Privacy and Risk, Office of Information and Technology, Department of Veterans Affairs.

[FR Doc. 2017-24168 Filed 11-6-17; 8:45 am]

BILLING CODE 8320-01-P